DEPARTMENT OF THE INTERIOR

National Park Service

Native American Graves Protection and Repatriation Review Committee Findings and Recommendations Regarding a Dispute Between Hui Malama I Na Kupuna O Hawai'i Nei and the Bishop Museum

AGENCY: National Park Service, Interior.

ACTION: Notice.

SUMMARY: At a March 13-15, 2005, public meeting in Honolulu, HI, the Native American Graves Protection and Repatriation Review Committee (Review Committee) considered a dispute between Hui Malama I Na Kupuna O Hawai'i Nei and the Bishop Museum. The dispute focused on whether three items from the Island of Moloka'i in the possession of the Bishop Museum are subject to repatriation under provisions of the Native American Graves Protection and Repatriation Act. The Review Committee recommended that the Bishop Museum proceed toward repatriation of the three objects to the appropriate claimants.

SUPPLEMENTARY INFORMATION: On May 2, 2003, the Bishop Museum published a Notice of Intent to Repatriate in the Federal Register. The notice identified a small wooden image carved into human form and a cowrie shell as unassociated funerary objects culturally affiliated with the Moloka'i Burial Council, Hui Malama I Na Kupuna O Hawai'i Nei, and the Office of Hawaiian Affairs.

On August 29, 2003, Hui Malama I Na Kupuna O Hawai'i Nei filed a claim with the Bishop Museum to repatriate the small wooden image and cowrie shell.

On October 21, 2003, Hui Malama I Na Kupuna O Hawai'i Nei asked the Bishop Museum to explain why a rock oyster shell pendant that had also been previously listed as an unassociated funerary object on the museum's Moloka'i inventory had not been included in the May 2, 2003 notice.

On November 8, 2004, Hui Malama I Na Kupuna O Hawai'i Nei requested the assistance of the Review Committee in resolving its dispute with the Bishop Museum. The request also included an allegation that the Bishop Museum failed to comply with the repatriation provisions of the Act.

On December 17, 2004, the Review Committee's designated Federal officer acknowledged receipt of the November 8, 2004, request and identified questions as to whether the rock oyster shell pendant was an unassociated funerary object or whether the museum had right of possession to the three items as issues of fact with which the Review Committee might wish to assist in resolving. The same day, the allegation of failure to comply was referred to the Director, National Park Service for investigation.

On February 2, 2005, the Bishop Museum notified the Review Committee that the museum intended to publish a Notice of Intent to Repatriate identifying the rock oyster pendant as an unassociated funerary object. The museum also notified the Review Committee that it did not intend to assert right of possession to either the cowrie shell or the rock oyster pendant. The museum did assert a right of possession to the carved wooden figure.

On February 18, 2005, the Review Committee's designated Federal officer notified Hui Malama I Na Kupuna O Hawai'i Nei and the Bishop Museum that the Review Committee had agreed to assist in the resolution of the dispute at its next meeting.

On March 1, 2005, the Review Committee's designated Federal officer sent letters to two claimants inviting them to provide information to the Review Committee: Royal Hawaiian Academy of Traditional Arts and Na Lei Ali'i Kawananakoa.

FINDINGS AND RECOMMENDATIONS:

On March 13-15, 2005, the Review Committee considered the dispute as presented by representatives of Hui Malama I Na Kupuna O Hawai'i Nei, Bishop Museum, Office of Hawaiian Affairs, Royal Hawaiian Academy of Traditional Arts, and Na Lei Ali'i Kawananakoa and made the following findings:

1. The identification of the carved wooden image, cowrie shell, and rock oyster pendant as unassociated funerary objects is not in dispute.

2. The Bishop Museum has asserted it has right of possession to the carved wooden figure.

3. A claim of right of possession to an unassociated funerary object requires a museum or Federal agency to provide evidence that the unassociated funerary object was acquired with the voluntary consent of an individual, Indian tribe, or Native Hawaiian organization with authority to alienate the cultural item [25 U.S.C. 3001 (13)].

4. Hui Malama I Na Kupuna O Hawai'i Nei presented evidence to support a finding that the Bishop Museum does not have right of possession to the carved wooden figure.

5. The Bishop Museum failed to overcome the inference that it does not have right of possession to the carved wooden figure.

6. There are multiple claims for the three cultural items.

7. A museum or Federal agency must repatriate cultural items within 90 days of receipt of a written request for repatriation that satisfies the requirements of 43 CFR 10.10 (a)(1), except where the exemptions of 43 CFR 10.10 (a)(3) and 10.10 (c) apply. However, there is nothing in the statute or regulations that state that the repatriation is automatic at the end of the 90 days.

The Review Committee recommends that:

1. The Bishop Museum proceed toward repatriation by continuing its process of consultation to determine the appropriate claimant(s) for the three unassociated funerary objects; and

2. When repatriation takes place, the transaction is documented in a fashion consistent with Hawaiian state law.

The National Park Service publishes this notice as part of its administrative and staff support for the Review Committee. The findings and recommendations are those of the Review Committee and do not necessarily represent the views of the Secretary of the Interior. Neither the Secretary of the Interior nor the National Park Service has taken a position on these matters.

Date: May 20, 2005
Rosita Worl,
Chair,
Native American Graves Protection and Repatriation Review Committee.

[FR Doc. 05-10816 Filed 5-31-05; 8:45 am]

BILLING CODE 4312-50-S